ENVIRONMENTAL PROTECTION AGENCY

[FRL-7429-9]

Voluntary Data Call-In; World Trade Center Disaster Exposure and Human Health Information

AGENCY: Environmental Protection Agency.

ACTION: Notice; request for voluntary submission of human health data, exposure data, or other similarly technical information or reports related to the after effects of the collapse of the World Trade Center.

SUMMARY: The U.S. Environmental Protection Agency's (EPA) Office of Research and Development (ORD) is requesting the voluntary submission of data and other information or reports on human health effects or exposures that may have been generated by academia, hospitals, public or private institutions, businesses and corporations, or any other public or private sector entity, following the collapse of the World Trade Center on September 11, 2001.

Please note that this request for information is a voluntary data call-in. No one is obligated by this notice to submit information and there are no penalties for not submitting information. Submitted data and information will be analyzed by the EPA to help the Agency better assess the potential human health impacts of exposure to the environmental contaminants in both the outdoor and indoor air and in the settled dust in businesses and residences.

DATES: Please submit this information by March 1, 2003. While EPA is interested in receiving all technical information and data that may have been developed, the information received by March 1, 2003 will be the most useful to the Agency as it revises its draft report.

ADDRESSES: Submissions of reports, data, or other technical information should be mailed to the Technical Information Staff (8623D), U.S. Environmental Protection Agency, Office of Research and Development, National Center for Environmental Assessment, 1200 Pennsylvania Avenue NW, Washington, DC 20460; Telephone: 202-564-3261; Facsimile: 202-565-0050. If an overnight delivery service is used, information submissions should be delivered to: Technical Information Staff, National Center for Environmental Assessment, Suite 500, 808 17th Street NW, Washington, DC 20006. Electronic submissions may be e-mailed to: nceadc.comment@epa.gov.

Please note that all submissions received in response to this notice will be considered public information. For that reason, please do not submit any uncoded personal information (such as medical data), Confidential Business Information, or information protected by copyright. Due to limited resources, acknowledgments will not be sent.

FOR FURTHER INFORMATION CONTACT: For general information on this notice contact: Joanna Foellmer, National Center for Environmental Assessment, Telephone: 202-564-3208; E-mail: foellmer.joanna@epa.gov. For technical questions regarding this notice, contact: Matthew Lorber, National Center for Environmental Assessment, Telephone: 202-564-3243; E-mail: lorber.matthew@epa.gov.

SUPPLEMENTARY INFORMATION: In a companion Federal Register notice published today, EPA is announcing a 60-day public comment period on its external review draft titled, “Exposure and Human Health Evaluation of Airborne Pollution from the World Trade Center Disaster (EPA/600/P-02/002A, October 2002).” During the development of this draft report, EPA became aware that potentially significant data may have been developed by public and private sector institutions that could be pertinent to this report. These data, which to date have not been available to EPA, could help the Agency to better understand the potential human health impacts of exposures to environmental contaminants resulting from the World Trade Center disaster. Therefore, EPA encourages and appreciates the voluntary submission of these data, which will be considered in the development of the Agency's final report on potential human health impacts from exposure to the environmental contaminants resulting from the World Trade Center collapse.

Dated: December 20, 2002.
Paul Gilman,
Assistant Administrator, Office of Research and Development.

[FR Doc. 02-32601 Filed 12-26-02; 8:45 am]

BILLING CODE 6560-50-P